DEPARTMENT OF HEALTH AND HUMAN SERVICES

Centers for Disease Control and Prevention

Healthcare Infection Control Practices Advisory Committee (HICPAC)

In accordance with section 10(a)(2) of the Federal Advisory Committee Act (Pub. L. 92-463), the Centers for Disease Control and Prevention (CDC) announces the following meeting for the aforementioned committee:

Times and Dates: 9:00 a.m.-5:00 p.m., October 11, 2012; 9:00 a.m.-12:00 p.m., October 12, 2012

Place: Renaissance Washington, DC Dupont Circle Hotel, City Center Ballroom, 1143 New Hampshire Avenue NW., Washington, District of Columbia 20037.

Status: Open to the public, limited only by the space available. Please register for the meeting at www.cdc.gov/hicpac.

Purpose: The Committee is charged with providing advice and guidance to the Secretary, Department of Health and Human Services (HHS); the Director, Centers for Disease Control and Prevention (CDC); the Deputy Director, Office of Infectious Diseases (OID), CDC; and the Director, National Center for Emerging and Zoonotic Infectious Disease (NCEZID), CDC, regarding (1) the practice of infection control; (2) strategies for surveillance, prevention, and control of healthcare-associated infections (e.g., nosocomial infections) antimicrobial resistance and related events in settings where healthcare is provided, including hospitals, ambulatory and long-term care facilities, and home health agencies; and (3) periodic updating of existing guidelines, development of new guidelines, guideline evaluation; and other policy statements regarding the prevention of healthcare-associated infections an healthcare-related conditions.

Matters To Be Discussed: The agenda will include updates on CDC's activities for healthcare associated infections (HAI), an update on the draft guideline for prevention of infections among patients in neonatal intensive care units (NICU), draft guideline for the prevention of surgical site infections, draft guidance for facility adjudication of infection data, and an update from the HICPAC surveillance working group.

Agenda items are subject to change as priorities dictate.

Contact Person for More Information: Erin Stone, M.S., HICPAC, Division of Healthcare Quality Promotion, NCEZID, CDC, l600 Clifton Road, NE., Mailstop A-07, Atlanta, Georgia 30333 Telephone (404) 639-4045. Email: hicpac@cdc.gov

The Director, Management Analysis and Services Office, has been delegated the authority to sign Federal Register notices pertaining to announcements of meetings and other committee management activities, for both the Centers for Disease Control and Prevention and the Agency for Toxic Substances and Disease Registry.

Dated: September 12, 2012.
Elaine L. Baker,
Director, Management Analysis and Services Office, Centers for Disease Control and Prevention.

[FR Doc. 2012-23193 Filed 9-19-12; 8:45 am]

BILLING CODE 4163-18-P